DEPARTMENT OF LABOR

Bureau of Labor Statistics

Federal Economic Statistics Advisory Committee; Appointment of Members

This is to announce the appointment of members to the Federal Economic Statistics Advisory Committee (FESAC), established under the provisions of the Federal Advisory Committee Act, as amended (Public Law 92-463; 5 U.S.C. App. 2, 6(c)). The membership of the Committee is as follows:

Professor Ernst R. Berndt, Chair, Massachusetts Institute of Technology

Dr. Barry P. Bosworth, Brookings Institution

Professor Franklin M. Fisher, Massachusetts Institute of Technology

Professor John C. Haltiwanger, University of Maryland

Dr. Sallie Keller-McNulty, Los Alamos National Laboratory

Professor Alan B. Krueger, Princeton University

Dr. Judith T. Lessler, Research Triangle Institute

Professor Lisa M. Lynch, Tufts University

Professor Joseph Sedransk, Case Western Reserve University

Professor Matthew D. Shapiro , University of Michigan

Professor John B. Taylor, Stanford University

Professor Kirk M. Wolter, University of Chicago

The Committee will present advice and make recommendations to the Department of Labor, Bureau of Labor Statistics and the Department of Commerce, Bureau of Economic Analysis and Bureau of the Census (the Agencies) from the perspective of the professional economics and statistics communities. The Committee is a technical committee composed of economists, statisticians, and behavioral scientists who are recognized for their attainments and objectivity in their respective fields. Committee members will be called upon to analyze the issues involved in producing Federal economic statistics and recommend practices that will lead to optimum efficiency, effectiveness, and cooperation among the Agencies. These initial appointments are for one-, two- or three-year terms, to provide staggered three-year terms overall. Professor Ernst R. Berndt will serve as Committee Chairperson.

Signed at Washington, DC this 19th day of May 2000.
Katharine G. Abraham,
Commissioner of Labor Statistics.

[FR Doc. 00-13249 Filed 5-25-00; 8:45 am]

BILLING CODE 4510-24-P